DEPARTMENT OF JUSTICE

Antitrust Division

Notice Pursuant to The National Cooperative Research and Production Act of 1993—IMS Global Learning Consortium, Inc.

Notice is hereby given that, on November 22, 2013, pursuant to Section 6(a) of the National Cooperative Research and Production Act of 1993, 15 U.S.C. § 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, Carson-Dellosa Publishing, Greensboro, NC; Data Recognition Group, Maple Grove, MN; Nelson Education Ltd., Toronto, Ontario, CANADA; The Northwest Evaluation Association, Portland, OR; Pacific Metrics, Monterey, CA; and The Constitution Foundation dba The Saylor Foundation, Washington, DC, have been added as parties to this venture.

Also, Ucompass.com, Inc., Tallahassee, FL; Tegrity, Santa Clara, CA; Utah State Office of Education, Salt Lake City, UT; Rhode Island Department of Elementary and Secondary Education Office of Instruction, Assessment, and Curriculum, Providence, RI; and State of Michigan Dept. of Education, Bureau of Assessments and Accountability, Lansing, MI, have withdrawn as parties to this venture.

In addition, Department of Education, Employment and Workplace Relations has changed its name to Australian Government Department of Education, Canberra City, AUSTRALIA.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on August 16, 2013. A notice was published in the Federal Register pursuant to Section 6(b) of the Act on September 16, 2013 (78 FR 56939).

Patricia A. Brink,
Director of Civil Enforcement, Antitrust Division.

[FR Doc. 2013-31228 Filed 12-27-13; 8:45 am]

BILLING CODE P